DEPARTMENT OF TRANSPORTATION

Federal Aviation Administration

Fourteenth Meeting: RTCA Special Committee 222, Inmarsat AMS(R)S

AGENCY: Federal Aviation Administration (FAA), U.S. Department of Transportation (DOT).

ACTION: Meeting Notice of RTCA Special Committee 222, Inmarsat AMS(R)S.

SUMMARY: The FAA is issuing this notice to advise the public of the fourteenth meeting of the RTCA Special Committee 222, Inmarsat AMS(R)S

DATES: The meeting will be held November 19, 2013 from 9:00 a.m.-5:00 p.m.

ADDRESSES: The meeting will be held at RTCA Headquarters, 1150 18th Street NW., Suite 910, Washington, DC, 20036. A Webex and teleconference line will be provided. Please contact Hal Moses at hmoses@rtca.org if you are interested.

FOR FURTHER INFORMATION CONTACT: Jennifer Iversen may be contacted directly at email: jiversen@rtca.org or by The RTCA Secretariat, 1150 18th Street NW., Suite 910, Washington, DC, 20036, or by telephone at (202) 330-0662/(202) 833-9339, fax (202) 833-9434, or Web site at http://www.rtca.org.

SUPPLEMENTARY INFORMATION: Pursuant to section 10(a)(2) of the Federal Advisory Committee Act (Pub. L. 92-463, 5 U.S.C., App.), notice is hereby given for a meeting of Special Committee 222. The agenda will include the following:

November 19

• Greetings & Attendance.

• Review summary of June 2013 meeting (13th Plenary)

• Report on the status of the DO-343 MASPS approval process

• The primary focus of the meeting will be a final review of the draft material for the DO-262 MOPS for SwiftBroadband, with additional Iridium material presented as approved by the PMC. The outcome of the meeting is approval of the SwiftBroadband and Iridium material for release to the formal RTCA Final Review and Comment (FRAC) process.

• Other items as appropriate.

• Review action items from 12th and 13th Plenary.

• Schedule 15th Plenary.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 25, 2013.
Paige Williams,
Management Analyst, NextGen, Business Operations Group, Federal Aviation Administration.

[FR Doc. 2013-24147 Filed 10-2-13; 8:45 am]

BILLING CODE 4910-13-P